DEPARTMENT OF THE TREASURY

Submission for OMB Review; Comment Request

July 23, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or August 28, 2009 to be assured of consideration.

Internal Revenue Service (IRS)

OMB Number: 1545-0190.

Type of Review: Extension.

Form: 4876-A.

Title: Election to be treated as an Interest Charge DISC.

Description: A domestic corporation and its shareholders must elect to be an interest charge domestic international sales corporation (IC-DISC). Form 4876-A is used to make the election. IRS uses the information to determine if the corporation qualifies to be an IC-DISC.

Respondents: Businesses or other for-profits.

Estimated Total Burden Hours: 6,360 hours.

OMB Number: 1545-1995.

Type of Review: Extension.

Title: Notice 2006-27, Certification of Energy Efficient Home Credit.

Description: This notice sets forth a process under which a taxpayer who constructs a dwelling unit (other than a manufactured home) may obtain a certification that the dwelling unit is an energy efficient home that satisfies the requirements of Sec. 45L(c)(1) (A) and (B) of the Internal Revenue Code. This notice is intended to provide (1) guidance concerning the methods by which taxpayers can construct dwelling units to meet the energy efficiency requirements of Sec. 45L and certify such units for purposes of the credit, and (2) guidance concerning which software programs can be used to complete the calculations

Respondents: Individuals and Households.

Estimated Total Burden Hours: 135 hours.

OMB Number: 1545-1251.

Type of Review: Extension.

Title: PS-5-91 (Final) Limitations on Percentage Depletion in the Case of Oil and Gas Wells.

Description: Section 1.613A-3(e)(6)(i) of the regulations requires each partner to separately keep records of the partner's share of the adjusted basis of partnership oil and gas property.

Respondents: Businesses or other for-profits.

Estimated Total Burden Hours: 49,950 hours.

OMB Number: 1545-1990.

Type of Review: Extension.

Title: Application of section 338 to Insurance Companies.

Description: These regulations will allow companies to retroactively apply the regulations to transactions completed prior to the effective data and to stop an election to use a historic loss payment pattern.

Respondents: Businesses or other for-profits.

Estimated Total Burden Hours: 12 hours.

OMB Number: 1545-0973.

Type of Review: Extension.

Form: 8569.

Title: Geographic Availability Statement.

Description: The data collected from this form is used by the executive panels responsible for screening internal and external applicants for the SES Candidate Development Program, and other executive position.

Respondents: Businesses or other for-profits.

Estimated Total Burden Hours: 84 hours.

OMB Number: 1545-1499.

Type of Review: Extension.

Title: Revenue Procedure 2006-10 Acceptance Agents.

Description: Revenue Procedure 2006-10 describes application procedures for becoming an acceptance agent and the requisite agreement that an agent must execute with IRS.

Respondents: Businesses or other for-profits.

Estimated Total Burden Hours: 24,960 hours.

OMB Number: 1545-2133.

Type of Review: Revision.

Title: Rev. Proc. 2009-16, Section 168(k)(4) Election Procedures and Rev. Proc. 2009-XX, Section 168(k)(4) Extension Property Elections.

Description: Rev. Proc. 2009-16 provides the time and manner for making the election to apply section 168(k)(4) of the Internal Revenue Code, for making the allocation of the bonus depreciation amount to increase certain limitation, and for making the election to apply section 3081(b) of the Housing and Economic Recovery Act of 2008. It provides the time and manner for a corporation to make the elections provided under new section 168(k)(4)(H) of the Internal Revenue Code with respect to the acceleration of claiming research or alternative minimum tax credits in lieu of claiming the bonus depreciation deduction.

Respondents: Businesses or other for-profits.

Estimated Total Burden Hours: 5,400 hours.

OMB Number: 1545-0865.

Type of Review: Extension.

Form: 8918.

Title: Material Advisor Disclosure Statement.

Description: The American Jobs Creation Act of 2004, Public Law 108-357, 118 Stat. 1418, (AJCA) was enacted on October 22, 2004. Section 815 of the AJCA amended section 6111 to require each material advisor with respect to any reportable transaction to make a return (in such form as the Secretary may prescribe) setting forth: (1) Information identifying and describing the transaction; (2) information describing any potential tax benefits expected to result from the transaction; and (3) such other information as the Secretary may prescribe.

Respondents: Businesses or other for-profits.

Estimated Total Burden Hours: 3,959 hours.

Clearance Officer: R. Joseph Durbala (202) 622-3634, Internal Revenue Service, Room 6516, 1111 Constitution Avenue, NW., Washington, DC 20224.

OMB Reviewer: Shagufta Ahmed, (202) 395-7873, Office of Management and Budget, Room 10235, New Executive Office Building, Washington, DC 20503.

Celina Elphage,
Treasury PRA Clearance Officer.

[FR Doc. E9-18109 Filed 7-28-09; 8:45 am]

BILLING CODE 4830-01-P